DEPARTMENT OF THE INTERIOR

National Park Service

[N6754; NPS-WASO-NAGPRA-NPS0041622; PPWOCRADN0-PCU00RP14.R50000]

Notice of Intended Repatriation: Columbia University, Art Properties, New York, NY

AGENCY: National Park Service, Interior.

ACTION: Notice.

SUMMARY: In accordance with the Native American Graves Protection and Repatriation Act (NAGPRA), Columbia University, Art Properties intends to repatriate certain cultural items that meet the definition of objects of cultural patrimony and that have a cultural affiliation with the Indian Tribes or Native Hawaiian organizations in this notice.

DATES: Repatriation of the cultural items in this notice may occur on or after January 20, 2026.

ADDRESSES: Send additional, written requests for repatriation of the cultural items in this notice to Roberto Ferrari, Columbia University, Art Properties, Avery Architectural & Fine Arts Library, 1172 Amsterdam Avenue, New York, NY 10027, email artproperties@library.columbia.edu.

SUPPLEMENTARY INFORMATION: This notice is published as part of the National Park Service's administrative responsibilities under NAGPRA. The determinations in this notice are the sole responsibility of Columbia University, Art Properties and additional information on the determinations in this notice, including the results of consultation, can be found in the summary or related records. The National Park Service is not responsible for the determinations in this notice.

Abstract of Information Available

A total of 11 cultural items have been requested for repatriation. The 11 objects of cultural patrimony are one medicine bundle, four medicine bundle cases, one group of bird skins for medicine bundles, one group of medicine bundle ties, one hawk medicine bundle, one fossil tooth medicine bundle, one eagle feather hairpiece, and one ceremonial rattle. All items were removed from the Plains region and were donated to Columbia University in 1935 by Wendell Ter Bush, Professor of Philosophy. Columbia University, Arts Properties has no knowledge of any potentially hazardous substances used to treat the objects.

Determinations

The Columbia University, Art Properties has determined that:

• The 11 objects of cultural patrimony described in this notice have ongoing historical, traditional, or cultural importance central to the Native American group, including any constituent sub-group (such as a band, clan, lineage, ceremonial society, or other subdivision), according to the Native American traditional knowledge of an Indian Tribe or Native Hawaiian organization.

• There is a reasonable connection between the cultural items described in this notice and the Northern Arapaho Tribe of the Wind River Reservation, Wyoming.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after January 20, 2026. If competing requests for repatriation are received, Columbia University, Art Properties must determine the most appropriate requestor before repatriation. Requests for joint repatriation of the cultural items are considered a single request and not competing requests. The Columbia University Art Properties is responsible for sending a copy of this notice to the Indian Tribes and Native Hawaiian organizations identified in this notice and to any other consulting parties.

Authority: Native American Graves Protection and Repatriation Act, 25 U.S.C. 3004 and the implementing regulations, 43 CFR 10.9.

Dated: December 11, 2025.
Melanie O'Brien,
Manager, National NAGPRA Program.

[FR Doc. 2025-23357 Filed 12-18-25; 8:45 am]

BILLING CODE 4312-52-P